DEPARTMENT OF COMMERCE

National Oceanic and Atmospheric Administration

National Sea Grant Review Panel

AGENCY: National Oceanic and Atmospheric Administration, Commerce.

ACTION: Notice of public meeting.

SUMMARY: This notice sets forth the schedule and proposed agenda of a forthcoming meeting of the Sea Grant Review Panel. The meeting will have several purposes. Panel members will discuss and provide advice to the National Sea Grant College Program in the areas of staffing and resource needs at the National Sea Grant Office, the designation of Pennsylvania State University as a Sea Grant Institutional Program and a response to Congressional questions posed by Members of the U.S. House of Representatives' Natural Resources Committee in regard to Sea Grant re-authorization.

DATES: The announced meeting is scheduled for: Tuesday, April 29, 2008.

ADDRESSES: Conference call. Public access is available at SSMC Bldg 3, Room #12836, 1315 East-West Highway, Silver Spring, MD.

FOR FURTHER INFORMATION CONTACT: Ms. Gina Barrera, National Sea Grant College Program, National Oceanic and Atmospheric Administration, 1315 East-West Highway, Room 11875, Silver Spring, Maryland 20910, (301) 734-1077.

SUPPLEMENTARY INFORMATION: The Panel, which consists of a balanced representation from academia, industry, state government and citizens groups, was established in 1976 by Section 209 of the Sea Grant Improvement Act (Public Law 94-461, 33 U.S.C. 1128). The Panel advises the Secretary of Commerce and the Director of the National Sea Grant College Program with respect to operations under the Act, and such other matters as the Secretary refers to them for review and advice. The agenda for the meeting is as follows:

Tuesday, April 29, 2008—3 to 5 p.m., EST

Agenda

I. Administrative Review Committee Report.

II. Pennsylvania Sea Grant Institutional Proposal.

III. Panel Response to Congressional Questions on Sea Grant Re-authorization.

This meeting will be open to the public.

Dated: April 15, 2008.
Mark E. Brown,
Chief Financial Officer, Office of Oceanic and Atmospheric Research.

[FR Doc. E8-8556 Filed 4-18-08; 8:45 am]

BILLING CODE 3510-KA-P